DEPARTMENT OF THE INTERIOR

Bureau of Land Management

[ID 100 1150 MR 241A: DBG081010]

Notice of Public Meeting: Off-Highway Vehicle and Recreation Transportation Management Sub-Group of the Resource Advisory Council to the Boise District, Bureau of Land Management, U.S. Department of the Interior

AGENCY: Bureau of Land Management, U.S. Department of the Interior.

ACTION: Notice of public meeting.

SUMMARY: In accordance with the Federal Land Policy and Management Act (FLPMA) and the Federal Advisory Committee Act of 1972 (FACA), the U.S. Department of the Interior, Bureau of Land Management (BLM) Boise District, Off-Highway Vehicle (OHV) and Recreation Transportation Management Sub-group of the Resource Advisory Council, will hold meetings as indicated below.

DATES: The first meeting will be held August 11, 2008, beginning at 7 p.m. and adjourning at 9 p.m. The meeting will be held in a meeting room at the Owyhee County Historical Museum in Murphy Idaho. A public comment period will be held before the conclusion of the meeting.

FOR FURTHER INFORMATION CONTACT: MJ Byrne, Public Affairs Officer and RAC Coordinator, BLM Boise District, 3948 Development Ave., Boise, ID 83705, Telephone (208) 384-3393.

SUPPLEMENTARY INFORMATION: The five-member Sub-group provides advice to the 15-member Council in the form of recommendations that relate to public concerns regarding Off-Highway Vehicle (OHV) and Recreation Transportation Management actions and issues related to the BLM-managed public lands located in the Boise District. This advice is then forwarded to the Secretary of the Interior, through the BLM, in the form of recommendations. Items on the agenda include review and discussion of requests for input by BLM during the RAC's Field Tour of the Murphy Sub-region located in Owyhee County. Future sub-group meetings will be held in order to provide opportunities for the public and interested stakeholder groups to continue to provide input into future BLM actions related to OHV and Recreation Transportation Management in this and other areas in the District. Public notice of future meetings will be provided through news releases and announcements in the local media. Agenda items and location may change due to changing circumstances, including wildfire emergencies. All meetings are open to the public. The public may present written comments to the Sub-group. Each Sub-group meeting will also have time allocated for hearing public comments. Depending on the number of persons wishing to comment and time available, the time for individual oral comments may be limited. Individuals who plan to attend and need special assistance, such as sign language interpretation, tour transportation or other reasonable accommodations, should contact the BLM Coordinators as provided above. Expedited publication is requested to give the public adequate notice.

Dated: July 28, 2008.
Aden L. Seidlitz,
District Manager.

[FR Doc. E8-17658 Filed 7-31-08; 8:45 am]

BILLING CODE 4310-GG-P